DEPARTMENT OF THE INTERIOR

Bureau of Land Management

[F-14828-L, F-14935-J, F-14877-B, F-14877-E and F-14877-F, LLAK962000-L14100000-HY0000-P]

Alaska Native Claims Selection

AGENCY: Bureau of Land Management, Interior.

ACTION: Notice of decision approving lands for conveyance.

SUMMARY: As required by 43 CFR 2650.7(d), notice is hereby given that the Bureau of Land Management (BLM) will issue an appealable decision approving the conveyance of surface estate for certain lands to NANA Regional Corporation, Inc., Successor in Interest to Ivisaapaagmiit Corporation, Koovukmeut Incorporated, and Isingmakmeut Incorporated, pursuant to the Alaska Native Claims Settlement Act. The subsurface estate in these lands will be conveyed to NANA Regional Corporation, Inc. when the surface estate is conveyed to NANA Regional Corporation, Inc., Successor in Interest to Ivisaapaagmiit Corporation, Koovukmeut Incorporated, and Isingmakmeut Incorporated. The lands are in the vicinity of Ambler, Shungnak, and Kobuk, Alaska, and are located in:

Kateel River Meridian, Alaska

T. 21 N., R. 6 E.,

Sec. 21.

Containing 640 acres.

T. 16 N., R. 8 E.,

Sec. 19.

Containing 594.40 acres.

T. 19 N., R. 10 E.,

Sec. 13.

Containing 545 acres.

T. 19 N., R. 11 E.,

Secs. 7, 8, 17 and 18.

Containing 2,471,78 acres.

T. 20 N., R. 11 E.,

Sec. 2, 4, 5 and 13.

Containing approximately 1,915 acres.

Aggregating approximately 6,166 acres.

Notice of the decision will also be published four times in the Arctic Sounder.

DATES: Any party claiming a property interest in the lands affected by the decision may appeal the decision within the following time limits:

1. Unknown parties, parties unable to be located after reasonable efforts have been expended to locate, parties who fail or refuse to sign their return receipt, and parties who receive a copy of the decision by regular mail which is not certified, return receipt requested, shall have until October 12, 2010 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The BLM by phone at 907-271-5960, by e-mail at ak.blm.conveyance@blm.gov, or by telecommunication device (TTD) through the Federal Information Relay Service (FIRS) at 1-800-877-8339, 24 hours a day, 7 days a week.

Joe J. Labay,
Land Transfer Resolution Specialist, Land Transfer Resolution Branch.

[FR Doc. 2010-22609 Filed 9-9-10; 8:45 am]

BILLING CODE 4310-JA-P